FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants

Valu Freight Consolidators, 1325 NW., 21 Street, Miami, FL 33142, Officers: Barry Ferguson, President (Qualifying Individual).

ATL Global USA Inc., 230-59 Int'l Airport Ctr. Blvd., Ste. 190, Springfield Gardens, NY 11423, Officers: Kwok Keung Wong, President (Qualifying Individual), Chem Fong Lim, Vice President.

SJT Trading Corp., 6500 NW. 72 Avenue, Miami, FL 33166, Officers: Diego Leandro Camarotta, Corporate Officer (Qualifying Individual), Marlangeles Setzes, Vice President.

Global Relogistics, Inc., 16499 NE. 19th Ave., Ste. 102, North Miami Beach, FL 33162, Officers: John C. Pardo, Sales Manager (Qualifying Individual), Alon Erra, President.

American N.V.O. Corp., 11017 NW 122 Street, Ste. 17, Medley, FL 33327, Julio Andres Osorio, Vice President (Qualifing Individual), Julio Osorio, President.

Non-Vessel—Operating Common Carrier and Ocean Freight Forwarder Transportation Intermediary Applicants

Quest Cargo, Inc., 1530 NE. 191 Street, Unit 307, Miami, FL 33179, Officer: Celso Cipolla, President (Qualifying Individual).

GTI International Logistics LLC, dba GTI Container Line, 74 Washington Street, Topsfield, MA 01983, Officer: Guido Voss, Manager (Qualifying Individual).

Mainfreight International, Inc., 600 Anton Blvd., 11th Floor, Costa Mesa, CA 92626, Officers: Thomas P. Onahue, President (Qualifying Individual), John Hepworth, Vice President.

Macro Transsport Services, LLC, 285 Clyde Morris Blvd., Ste. 300, Ormond Beach, FL 32174, Officers: Benjamin Dale Fricke, Vice President (Qualifying Individual), Charles Casey, President.

Alliance Shipping Group, Inc., 1047 Tupelo Way, Weston, FL 33327, Officer: Ived Grullon, President (Qualifying Individual).

ACON Logistics Services (USA) Inc., 110 S. Rosemead Bldq., #J, Pasadena, CA 91107, Officers: Eric Ta Chen, President (Qualifying Individual).

Ocean Freight Forwarder—Ocean Transportation Intermediary Applicants

Sefco Export Management Company, Inc.. One Ascan Avenue PH-74, Forest Hills, NY 11375, Officer: Joseph T. Quinn, President (Qualifying Individual).

Dulce Auto Import & Export, Inc., 15316 SW. 16th Terrace, Miami, FL 33185, Officers: Dulce Guzman, President (Qualifying Individual), Alfredo Montalvo, Secretary.

Dated: January 12, 2007.
Bryant L. VanBrakle,
Secretary.

[FR Doc. E7-628 Filed 1-17-07; 8:45 am]

BILLING CODE 6730-01-P